DEPARTMENT OF ENERGY

Federal Energy Regulatory Commission

[Docket No. OR00-5-000]

Sinclair Oil Corporation v. Equilon Pipe Line Company LLC; Notice of Complaint

June 6, 2000.

Take notice that on June 2, 2000, Sinclair Oil Corporation (Sinclair) tendered for filing a complaint against Equilon Pipe Line Company LLC (Equilon).

Sinclair states that it is a shipper of crude oil on a pipeline operated by Equilon that originates at South Terminal, Cushing, Lincoln County, Oklahoma and terminates at West Tulsa, Tulsa County, Oklahoma. Sinclair further states that its crude oil shipments on that line constitute transportation in interstate commerce and that Equilon has refused to publish a tariff with the Commission to govern the use of the pipeline.

Any person desiring to be heard or to protest this filing should file a motion to intervene or protest with the Federal Energy Regulatory Commission, 888 First Street, NE, Washington, DC 20426, in accordance with Rules 211 and 214 of the Commission's Rules of Practice and Procedure (18 CFR 385.211 and 385.214). All such motions or protests must be filed on or before June 26, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 26, 2000.

Linwood A. Watson, Jr.,
Acting Secretary.

[FR Doc. 00-14706 Filed 6-9-00; 8:45 am]

BILLING CODE 6717-01-M